DEPARTMENT OF TRANSPORTATION

Federal Transit Administration

[FTA Docket No. FTA-2004-18530]

Notice of Request for Extension of a Currently Approved Collection

AGENCY: Federal Transit Administration, DOT.

ACTION: Notice of request for comments.

SUMMARY: In accordance with the Paperwork Reduction Act of 1995, this notice announces the intention of the Federal Transit Administration (FTA) to request the Office of Management and Budget (OMB) to extend the following currently approved information collection: United We Ride State Coordination Grants.

DATES: Comments must be submitted before September 7, 2004.

ADDRESSES: All written comments must refer to the docket number that appears at the top of this document and be submitted to the United States Department of Transportation, Central Dockets Office, Pub. L. 401, 400 Seventh Street, SW., Washington, DC 20590. All comments received will be available for examination at the above address from 10 a.m. to 5 p.m., e.t., Monday through Friday, except federal holidays. Those desiring notification of receipt of comments must include a self-addressed, stamped postcard/envelope.

FOR FURTHER INFORMATION CONTACT: Elizabeth Solomon, United We Ride Initiative, (202) 366-0242.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: United We Ride State Coordination Grants.

Background: The U.S. Departments of Transportation (DOT), Health and Human Services (HHS), Labor (DOL) and Education (DoED), have launched United We Ride (UWR), a five part initiative to enhance the coordination on human service transportation. UWR intends to break down the barriers between programs and set the stage for local and state partnerships that generate common sense solutions and deliver A-plus performance for those individuals who depend on transportation services to participate fully in community life. The UWR five initiatives include: (1) The Framework for Action, (2) A National Leadership Forum on Human Service Transportation Coordination, (3) State Leadership Awards, (4) State Coordination Grants, and (5) Help Along the Way.

The Congress and the Executive Branch are interested in ensuring that various human service transportation activities funded by various federal programs are better coordinated. The General Accounting Office (GAO) issued a report on “Transportation Disadvantaged Populations” (June 2003) that identified 62 different federal programs across eight federal agencies that provide funding that may be used to support community transportation services. The report points out that there are multiple public and private agencies that provide human service transportation in any one community, and services vary greatly in terms of eligibility requirements, hours or scope of operation, specific destinations and quality. Given the multiplicity of programs and the significant dollar amounts spent, more effective coordination is needed to ensure better service to more people. This is especially true when federal, state, and local budgets for human service activities are under extreme financial pressure.

As also indicated by GAO, many objectives have been achieved; however, the fragmentation and lack of coordination within supporting agencies continue to be a challenge. On February 24, 2004, President Bush signed an Executive Order Number 13330 on Human Service Transportation Coordination establishing the Federal Interagency Coordinating Council on Access and Mobility and requiring attention to the obstacles outlined by GAO. The President's Executive Order requires agencies to identify and implement strategies for enhancing coordinated services within a one-year period. The United We Ride initiative includes a State Coordination Grant that provides support to help states address the issues outlined both by GAO and by the President in the Executive Order.

FTA requested an emergency approval from OMB for the United We Ride State Coordination Grant Initiative in a Federal Register Notice dated May 21, 2004. OMB approved the request on June 22, 2004. The OMB Control Number is 2132-0562. FTA will publish a Federal Register Notice soliciting proposals for the State Coordination Grants shortly.

Respondents: State government.

Estimated Annual Burden on Respondents: 10 hours for each of the 50 respondents.

Estimated Total Annual Burden: 500 hours.

Frequency: Annual.

Issued: June 29, 2004.
Rita L. Wells,
Associate Administrator for Administration.

[FR Doc. 04-15120 Filed 7-2-04; 8:45 am]

BILLING CODE 4910-57-P